DEPARTMENT OF ENERGY

Federal Energy Regulatory Commission

Combined Notice of Filings #1

Take notice that the Commission received the following electric corporate filings:

Docket Numbers: EC18-22-000.

Applicants: CXA Sundevil Power I, Inc., CXA Sundevil Power II, Inc.

Description: Application for Authorization Under Section 203 of the Federal Power Act and Request for Expedited and Confidential Treatment of CXA Sundevil Power I, Inc., et. al.

Filed Date: 11/17/17.

Accession Number: 20171117-5167.

Comments Due: 5 p.m. ET 12/8/17.

Take notice that the Commission received the following exempt wholesale generator filings:

Docket Numbers: EG18-17-000.

Applicants: ORNI 39 LLC.

Description: Self-Certification of Exempt Wholesale Generator of ORNI 39 LLC.

Filed Date: 11/20/17.

Accession Number: 20171120-5044.

Comments Due: 5 p.m. ET 12/11/17.

Docket Numbers: EG18-18-000.

Applicants: ORNI 41 LLC.

Description: Self-Certification of Exempt Wholesale Generator of ORNI 41 LLC.

Filed Date: 11/20/17.

Accession Number: 20171120-5045.

Comments Due: 5 p.m. ET 12/11/17.

Take notice that the Commission received the following electric rate filings:

Docket Numbers: ER10-2253-014; ER10-3319-018; ER11-2370-006.

Applicants: Astoria Energy LLC, Astoria Energy II LLC, Cambria CoGen Company.

Description: Supplement to June 29, 2017 Joint MBR Triennial of Astoria Energy LLC, et al., and June 28, 2017 Triennial MBR Report of Cambria CoGen Company.

Filed Date: 11/20/17.

Accession Number: 20171120-5112.

Comments Due: 5 p.m. ET 12/11/17.

Docket Numbers: ER12-1436-012; ER10-2329-009; ER10-2740-011; ER10-2742-010; ER12-1260-011; ER13-1793-009; ER14-152-007.

Applicants: Eagle Point Power Generation LLC, Elgin Energy Center, LLC, Hazle Spindle, LLC, Rocky Road Power, LLC, Stephentown Spindle, LLC, Tilton Energy LLC, Vineland Energy LLC.

Description: Supplement to June 30, 2017 Triennial Market-Based Rate Update Filing for the Northeast Region of the Rockland Sellers.

Filed Date: 11/17/17.

Accession Number: 20171117-5168.

Comments Due: 5 p.m. ET 12/8/17.

Docket Numbers: ER16-262-001.

Applicants: Uniper Global Commodities North America LLC.

Description: Data Response to November 13, 2017 letter requesting additional information.

Filed Date: 11/17/17.

Accession Number: 20171117-5160.

Comments Due: 5 p.m. ET 12/8/17.

Docket Numbers: ER16-1346-003.

Applicants: Midcontinent Independent System Operator, Inc.

Description: Compliance filing: 2017-11-20_SA 2911 LEPA-MISO External NRIS (J373) Compliance (3rd Sub) to be effective 4/6/2016.

Filed Date: 11/20/17.

Accession Number: 20171120-5099.

Comments Due: 5 p.m. ET 12/11/17.

Docket Numbers: ER16-1817-004.

Applicants: Midcontinent Independent System Operator, Inc.

Description: Compliance filing: 2017-11-20_Compliance filing of E-NRIS pro forma (4th) to be effective 4/5/2016.

Filed Date: 11/20/17.

Accession Number: 20171120-5098.

Comments Due: 5 p.m. ET 12/11/17.

Docket Numbers: ER17-933-001.

Applicants: Exelon Generation Company, LLC.

Description: Compliance Filing of Exelon Generation Company, LLC.

Filed Date: 11/20/17.

Accession Number: 20171120-5058.

Comments Due: 5 p.m. ET 12/11/17.

Docket Numbers: ER18-155-001.

Applicants: EnPowered.

Description: Tariff Amendment: EnPowered USA, Inc. Market Based Rate Tariff to be effective 10/31/2017.

Filed Date: 11/20/17.

Accession Number: 20171120-5119.

Comments Due: 5 p.m. ET 12/11/17.

Docket Numbers: ER18-315-000.

Applicants: Wildwood Lessee, LLC.

Description: Baseline eTariff Filing: Wildwood Lessee, LLC MBR Application to be effective 12/10/2017.

Filed Date: 11/17/17.

Accession Number: 20171117-5144.

Comments Due: 5 p.m. ET 12/8/17.

Docket Numbers: ER18-316-000.

Applicants: The Connecticut Light and Power Company.

Description: § 205(d) Rate Filing: Interconnection Agreement with Woods Hill Solar, LLC to be effective 11/30/2017.

Filed Date: 11/20/17.

Accession Number: 20171120-5051.

Comments Due: 5 p.m. ET 12/11/17.

Docket Numbers: ER18-317-000.

Applicants: PJM Interconnection, L.L.C.

Description: § 205(d) Rate Filing: Wholesale Market Participation Agreement SA No. 4846; Queue No. AC2-144 to be effective 11/4/2017.

Filed Date: 11/20/17.

Accession Number: 20171120-5054.

Comments Due: 5 p.m. ET 12/11/17.

Docket Numbers: ER18-318-000.

Applicants: Virginia Electric and Power Company, PJM Interconnection, L.L.C.

Description: Compliance filing: Dominion submits Compliance Filling per Opinion No. 555 in EL10-49-005 to be effective 10/19/2017.

Filed Date: 11/20/17.

Accession Number: 20171120-5095.

Comments Due: 5 p.m. ET 12/11/17.

Docket Numbers: ER18-319-000.

Applicants: Southwest Power Pool, Inc.

Description: Compliance filing: Compliance Filing to Docket No. EL16-110 to be effective 10/19/2017.

Filed Date: 11/20/17.

Accession Number: 20171120-5097.

Comments Due: 5 p.m. ET 12/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 20, 2017.
Nathaniel J. Davis, Sr.,
Deputy Secretary.

[FR Doc. 2017-25582 Filed 11-27-17; 8:45 am]

BILLING CODE 6717-01-P